ENVIRONMENTAL PROTECTION AGENCY

[EPA-HQ-OW-2018-0079; ER-FRL-9038-9]

Availability of a Programmatic Environmental Assessment (PEA) and Finding of No Significant Impact (FONSI)

AGENCY: Environmental Protection Agency (EPA).

ACTION: Programmatic Environmental Assessment (PEA)/Finding of No Significant Impact (FONSI).

SUMMARY: Pursuant to the National Environmental Policy Act (NEPA), the Council on Environmental Quality's NEPA regulations, and EPA's regulations for implementing NEPA, EPA has prepared a Programmatic Environmental Assessment (PEA) to analyze the potential environmental impacts related to the issuance of credit assistance under the Water Infrastructure Finance and Innovation Act (WIFIA) program. The PEA evaluates the potential adverse and beneficial environmental impacts of water infrastructure projects eligible for WIFIA credit assistance in compliance with NEPA. Projects receiving WIFIA credit assistance must also comply with applicable federal laws and regulations and Executive Orders (E.O.) and other state and local environmental reviews. Based on the environmental impact analysis in the PEA, EPA has made a preliminary determination that no significant environmental impacts are anticipated from the issuance of WIFIA credit assistance. This notice initiates the 30-day review period and invites comments from Federal, State, and local agencies, Indian tribes, and the public regarding EPA's preliminary determination.

DATES: Comments must be received by May 29, 2018.

ADDRESSES: Submit your comments, identified by Docket ID No. EPA-HQ-OW-2018-0079 to the Federal eRulemaking Portal: Go to http://www.regulations.gov. Please follow the online instructions for submitting comments. Once submitted, comments cannot be edited or withdrawn. EPA may publish public comments received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Alejandro Escobar, Water Infrastructure Division, Office of Wastewater Management, WIFIA Program, Mail Code: 4201T, Environmental Protection Agency, 1200 Pennsylvania Avenue NW, Washington, DC 20460; telephone number: 202-564-9047; email address wifia@epa.gov.

SUPPLEMENTARY INFORMATION: EPA is seeking public comment regarding its preliminary Finding of No Significant Impact (FONSI) to document its determination that no significant environmental impacts are anticipated from the issuance of WIFIA credit assistance. EPA invites the public to submit comments through Regulations.gov during the 30-day comment period following the publication of this notice in the Federal Register.

Congress enacted the WIFIA as part of the Water Resources Reform and Development Act of 2014, as amended by sec. 1445 of Public Law 114-94 [1] and codified at 33 U.S.C. 3901-3914. WIFIA establishes a new federal credit program for water infrastructure projects to be administered by EPA.

The proposed federal action under consideration in this Programmatic EA is approving or denying WIFIA applications by either providing or not providing WIFIA credit assistance. WIFIA provides credit assistance to eligible water and wastewater infrastructure projects as defined in 33 U.S.C. 3905. The proposed action being evaluated is the design, construction, operation, and maintenance for a range of water and wastewater infrastructure projects, which are eligible for WIFIA credit assistance.

The environmental review process, which is documented by the PEA, indicates that no potential significant adverse environmental impacts are anticipated from the proposed action. The PEA analyzed the potential environmental impacts of water and waste water infrastructure projects eligible for credit assistance under the WIFIA program.

Based on the environmental impact analysis in the PEA, EPA has determined that no significant environmental impacts are anticipated from the issuance of credit assistance under WIFIA and the proposed action does not constitute a major Federal action significantly affecting the quality of the human environment, making the preparation of an Environmental Impact Statement (EIS) unnecessary. Therefore, EPA is issuing a preliminary FONSI.

Dated: April 24, 2018.
Kelly Knight,
Director, NEPA Compliance Division, Office of Federal Activities.

[FR Doc. 2018-08865 Filed 4-26-18; 8:45 am]

BILLING CODE 6560-50-P